ENVIRONMENTAL PROTECTION AGENCY

40 CFR Part 52

[EPA-R07-OAR-2015-0513; FRL-9934-98-Region 7]

Approval and Promulgation of Implementation Plans; State of Missouri, Limited Maintenance Plan for the St. Louis Nonclassifiable Maintenance Area for the 8-Hour Carbon Monoxide National Ambient Air Quality Standard

AGENCY: Environmental Protection Agency (EPA).

ACTION: Direct final rule.

SUMMARY: The Environmental Protection Agency (EPA) is taking direct final action to approve revisions to the State Implementation Plan (SIP) submitted by the State of Missouri relating to the Limited Maintenance Plan for the St. Louis area for the 8-Hour Carbon Monoxide (CO) National Ambient Air Quality Standard (NAAQS). On April 8, 2014, the Missouri Department of Natural Resources (MDNR) submitted to EPA a second 10-year maintenance plan for the St. Louis area for the CO NAAQS. This maintenance plan addresses maintenance of the CO NAAQS for a second 10-year period beyond the original redesignation. In accordance with the requirements of the Clean Air Act (CAA), EPA is approving the revision because the State adequately demonstrates that the St. Louis Maintenance area will maintain air quality standards for CO through the year 2022.

DATES: This direct final rule will be effective December 1, 2015, without further notice, unless EPA receives adverse comment by November 2, 2015. If EPA receives adverse comment, we will publish a timely withdrawal of the direct final rule in the Federal Register informing the public that the rule will not take effect.

ADDRESSES: Submit your comments, identified by Docket ID No. EPA-R07-OAR-2015-0513, by one of the following methods:

1. www.regulations.gov. Follow the on-line instructions for submitting comments.

2. Email: brown.steven@epa.gov.

3. Mail or Hand Delivery: Steven Brown, Environmental Protection Agency, Air Planning and Development Branch, 11201 Renner Boulevard, Lenexa, Kansas 66219.

Instructions: Direct your comments to Docket ID No. EPA-R07-OAR-2015-0513. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, i.e., CBI or other information whose disclosure is restricted by statute. Certain other material, such as copyrighted material, will be publicly available only in hard copy form. Publicly available docket materials are available either electronically in www.regulations.gov or in hard copy at the Environmental Protection Agency, Air Planning and Development Branch, 11201 Renner Boulevard, Lenexa, Kansas 66219. The Regional Office's official hours of business are Monday through Friday, 8:00 a.m. to 4:30 p.m., excluding legal holidays. The interested persons wanting to examine these documents should make an appointment with the office at least 24 hours in advance.

FOR FURTHER INFORMATION CONTACT: Steven Brown, Environmental Protection Agency, Air Planning and Development Branch, 11201 Renner Boulevard, Lenexa, Kansas 66219 at 913-551-7718 or by email at brown.steven@epa.gov.

SUPPLEMENTARY INFORMATION: Throughout this document “we,” “us,” or “our” refer to EPA. This section provides additional information by addressing the following:

I. What is being addressed in this document?

II. What is the background for this action?

III. Have the requirements for approval of a SIP revision been met?

IV. Evaluation of Missouri's Submittal

V. Transportation and General Conformity

VI. What action is EPA taking?

I. What is being addressed in this document?

The EPA is taking direct final action to approve revisions to the SIP submitted by the State of Missouri relating to the Limited Maintenance Plan for the St. Louis area for the 8-hour CO NAAQS.

Eight years after an area is redesignated to attainment, CAA section 175A(b) requires the state to submit a subsequent maintenance plan to EPA, covering a second 10-year period. This maintenance plan must demonstrate continued compliance with the NAAQS during this second 10-year period.

On April 8, 2014, the MDNR submitted to EPA a second 10-year maintenance plan for the St. Louis area for the CO NAAQS and requested that EPA approve this revision as meeting the CAA section 175A requirements. This maintenance plan addresses maintenance of the CO NAAQS for a second 10-year period beyond the original redesignation.

This revision to Missouri's SIP does not have an adverse effect on air quality and EPA's approval of this SIP revision is being done in accordance with the requirements of the CAA.

II. What is the background for this action?

Under section 107(d)(1)(C) of the Act, any area designated before the date of enactment of the CAA Amendments of 1990 was to be designated upon enactment by operation of law. CO nonattainment areas that had not violated the CO standard in either year for the two-year period 1988-1989 were to be designated nonattainment and identified as “not classified” nonattainment areas. Accordingly, because the St. Louis area had not violated the standard in the 1988-1989 period, on November 6, 1991, the St. Louis area was designated nonattainment for the CO NAAQS and identified as “not classified” on November 6, 1991 (56 FR 56786).

On June 13, 1997, the State requested EPA to redesignate the St. Louis nonattainment area to attainment and submitted a limited maintenance plan to demonstrate maintenance of the standard for a 10-year period. EPA published approval of the redesignation request and maintenance plan on January 26, 1999 (64 FR 3855). The State has maintained the standard since and recently submitted a second 10-year maintenance plan to EPA on April 8, 2014.

An areas design value (DV) for the 8-hour CO NAAQS is calculated by finding the second maximum 8 hour average value at each monitor, for each year, for two years. The higher second maximum is used as the areas DV and the 8-hour CO standard is attained when the daily average 8-hour CO concentration of 9.0 parts per million (ppm) is not exceeded more than once a year.

Since the redesignation of the St. Louis area to attainment for CO on January 26, 1999, the second highest concentration in any calendar year measured by the EPA approved monitoring network was 5.7 ppm, which is less than 9.0 ppm.

In addition, areas that can demonstrate design values at or below 7.65 ppm (85 percent of the 9.0 ppm CO NAAQS) for 8 consecutive quarters may use a limited maintenance plan option. The State has opted to develop a limited maintenance plan to fulfill the second 10-year maintenance plan required by the CAA. The base year in the State's second 10-year maintenance plan is 2008, which has a design value of 2.8 ppm. EPA also reviewed air quality monitoring data (2011-2012) and the 8-hour CO design value for the St. Louis area is 1.8 ppm. Thus, the area is well below the 7.65 ppm (85 percent of the 9.0 ppm CO NAAQS) for 8 consecutive quarters and qualifies to use the limited maintenance plan option.

III. Have the requirements for approval of a SIP revision been met?

The state submission has met the public notice requirements for SIP submissions in accordance with 40 CFR 51.102. The submission also satisfied the completeness criteria of 40 CFR part 51, appendix V. In addition, the revision meets the substantive SIP requirements of the CAA, including Section 110 and implementing regulations.

IV. Evaluation of Missouri's Submittal

EPA has reviewed the St. Louis area second 10-year CO maintenance plan and concludes that the submittal meets the requirements of section 175A(b) of the Act. The following is a summary of the requirements and EPA's evaluation of how each requirement is met.

A. Base Year Emissions Inventory

The plan must contain an attainment year emissions inventory to identify a level of emissions in the area which is sufficient to attain the CO NAAQS. The St. Louis area second 10-year CO maintenance plan contains an emissions inventory for the base year 2008 that is consistent with EPA's most recent guidance on maintenance plan emission inventories. The emissions inventory is a list, by source, of the air contaminants directly emitted into the St. Louis area. The data in the emissions inventory is based on calculations using emission factors, which is a method for converting source activity levels into an estimate of emissions contributions for those sources. Because violations of the CO NAAQS are most likely to occur on winter weekdays, the inventory prepared is in a “typical winter day” format. The table below shows the tons of CO emitted per winter day in 2008 by source category.

County | Source category | CO Emissions (tons per winter day)
St. Louis | Point Sources | 17.26
St. Louis | Area Sources | 70.26
St. Louis | On Road Mobile | 532.42
St. Louis | Off Road Mobile | 250.48
St. Louis | Total | 870.42

B. Demonstration of Maintenance

The maintenance plan demonstration requirement is considered to be satisfied for areas using the limited maintenance plan option, which are required to demonstrate design values at or below 7.65 ppm (85 percent of the 9.0 ppm CO NAAQS) for 8 consecutive quarters. The State has opted to develop a limited maintenance plan to fulfill the St. Louis area second 10-year maintenance plan required by the CAA.

With the limited maintenance plan option, there is no requirement to project emissions of air quality over the maintenance period. EPA believes that if the area begins the maintenance period at, or below, 85 percent of the 9.0 ppm of the CO 8-hour NAAQS, the applicability of prevention of significant deterioration requirements, the control measures already in the SIP, and Federal measures, should provide adequate assurance of maintenance over the 10-year maintenance period. The last monitored exceedance occurred in 1994 and previous to that, 1987. The St. Louis area met the requirements for the Limited Maintenance Plan option in the original redesignation and maintenance plan approval in 1999. The design value at that time (1994-1995) was 5.7 ppm and the monitored CO levels have been steadily in decline ever since. The 8-hour CO design value for the St. Louis area is 1.8 ppm based on 2011-2012 data, which is below the limited maintenance plan requirement of 7.65 ppm. Therefore, the St. Louis area has adequately demonstrated that it will maintain the CO NAAQS into the future.

C. Monitoring Network and Verification of Continued Attainment

To verify the attainment status of the area over the maintenance period, the maintenance plan should contain provisions for continued operation of an appropriate, EPA-approved monitoring network in accordance with 40 CFR part 58. The State has an approved monitoring network that includes the St. Louis area. The monitoring network was most recently approved by EPA on October 23, 2014. In the St. Louis second 10-year CO maintenance plan, MDNR commits to verify continued attainment through the EPA-approved monitoring network in accordance with 40 CFR part 58.

D. Contingency Plan

Section 175A(d) of the Act requires that a maintenance plan include contingency provisions. The St. Louis second 10-year CO limited maintenance plan contains a contingency plan that would institute lowering CO limits on existing rules that control CO emissions. The contingency plan is triggered either when (Level I) an exceedance of the 8 hour CO standard is recorded on any monitor, or (Level II) when a violation occurs at any monitor CO monitoring stations in the nonattainment area. EPA finds that the contingency measures provided in the maintenance plan are adequate to ensure prompt correction of a violation.

V. Transportation and General Conformity

Transportation conformity is required by section 176(c) of the CAA. EPA's conformity rule requires that transportation plans, programs, and projects that are funded under 23 U.S.C. or the Federal Transit Act conform to SIPs. Conformity to a SIP means that transportation activities will not produce new air quality violations, worsen existing violations, or delay timely attainment of the NAAQS. The transportation conformity rule (40 CFR parts 51 and 93) and the general conformity rule (40 CFR parts 51 and 93) apply to nonattainment areas and maintenance areas covered by an approved maintenance plan. Under either conformity rule, an acceptable method of demonstrating that a Federal action conforms to the applicable SIP is to demonstrate that expected emissions from the planned action are consistent with the emissions budget for the area. While EPA's limited maintenance plan option does not exempt an area from the need to affirm conformity, it explains that the area may demonstrate conformity without submitting an emissions budget. Under the limited maintenance plan option, emissions budgets are essentially treated as not constraining for the length of the maintenance period because it is unreasonable to expect that the qualifying areas would experience so much growth in that period that a violation of the CO NAAQS would result. Similarly, Federal actions subject to the general conformity rule could be considered to satisfy the “budget test” specified in section 93.158(a)(5)(i)(A) for the same reasons that the budgets are essentially considered to be unlimited. While areas with maintenance plans approved under the limited maintenance plan option are not subject to the budget test, the areas remain subject to other transportation conformity requirements of 40 CFR part 93, subpart A. Thus, the metropolitan planning organization (MPO) in the area or the State must document and ensure that:

a. Transportation plans and projects provide for timely implementation of SIP transportation control measures in accordance with 40 CFR 93.113;

b. Transportation plans and projects comply with the fiscal constraint element per 40 CFR 93.108;

c. The MPO's interagency consultation procedures meet applicable requirements of 40 CFR 93.105;

d. Conformity of transportation plans is determined no less frequently than every four years, and conformity of plan amendments and transportation projects is demonstrated in accordance with the timing requirements specified in 40 CFR 93.104;

e. The latest planning assumptions and emissions model are used as set forth in 40 CFR 93.110 and 40 CFR 93.111;

f. Projects do not cause or contribute to any new localized CO or particulate matter violations, in accordance with procedures specified in 40 CFR 93.123; and

g. Project sponsors and/or operators provide written commitments as specified in 40 CFR 93.125.

The MPO and lead transportation agency in St. Louis is the East-West Gateway Council of Governments (EWG). EWG oversees transportation conformity determinations of the Interagency Consultation Committee established in Missouri Administrative Rule 10 CSR 10-5.480, which includes MDNR, the Missouri Transportation Department, the Federal Highway Administration, Federal Transit Administration, City of St. Louis Department of Health, St. Louis County Department of Health, St. Louis County Department of Highways and the EPA; as specified under 40 CFR part 93. St. Louis is currently meeting the requirements under 40 CFR part 93, subpart A.

VI. What action is EPA taking?

EPA is taking direct final action to approve this SIP revision. We are publishing this rule without a prior proposed rule because we view this as a noncontroversial action and anticipate no adverse comment. However, in the “Proposed Rules” section of this Federal Register, we are publishing a separate document that will serve as the proposed rule to approve this SIP revision, if adverse comments are received on this direct final rule. We will not institute a second comment period on this action. Any parties interested in commenting must do so at this time. For further information about commenting on this rule, see the ADDRESSES section of this document. If EPA receives adverse comment, we will publish a timely withdrawal in the Federal Register informing the public that this direct final rule will not take effect. We will address all public comments in any subsequent final rule based on the proposed rule.

Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by December 1, 2015. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: September 21, 2015.
Mark Hague,
Acting Regional Administrator, Region 7.

For the reasons stated in the preamble, EPA amends 40 CFR part 52 as set forth below:

PART 52—APPROVAL AND PROMULGATION OF IMPLEMENTATION PLANS

1. The authority citation for part 52 continues to read as follows:

Authority: 42 U.S.C. 7401 et seq.

Subpart AA—Missouri

2. Section 52.1320(e) is amended by adding new entry (67) at the end of the table to read as follows:

§ 52.1320 Identification of plan.

* * * * *

(e) * * *

EPA-APPROVED MISSOURI NONREGULATORY SIP PROVISIONS
Name of nonregulatory SIP provision | Applicable geographic area or Nonattainment area | State submittal date | EPA approval date | Explanation
* * * * * * *
(67) Missouri 8-Hour CO Second Ten year Limited Maintenance Plan. | St. Louis | 4/8/14 | 10/2/15, [Insert Federal Register citation] | EPA-R07-OAR-2015-0513; FRL-9934-98-Region 7]

[FR Doc. 2015-25037 Filed 10-1-15; 8:45 am]

BILLING CODE 6560-50-P